CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled AmeriCorps VISTA Recovery Act Progress Report Supplement to the Office of Management and Budget (OMB) in accordance with the Paperwork Reduction Act of 1995, Public Law 104-13, (44 U.S.C. Chapter 35).

ADDRESSES: Comments may be submitted, identified by the title of the information collection activity, to the Office of Information and Regulatory Affairs, Attn: Ms. Sharon Mar, OMB Desk Office for the Corporation for National and Community Service, by any of the following two methods within 30 days from the date of publication in this Federal Register.

(1) By fax to: (202) 395-6974, Attention: Ms. Sharon Mar, OMB Desk Office for the Corporation for National and Community Service, by any of the following two methods within 30 days form the date of publication in this Federal Register.

(2) Electronically by e-mail to smar@omb.eop.gov.

A copy of this ICR, with applicable supporting documentation may be obtained by contacting the Corporation for National Service, AmeriCorps VISTA, Craig Kinnear, Program Analyst, (202) 606-6708, or by e-mail at ckinnear@cns.gov. Individuals who use a telecommunications device for the deaf (TTY-TDD) may call (202) 565-2799 between 8:30 a.m. and 5 p.m. Eastern Time, Monday through Friday.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and,

• Propose ways to minimize the burden of the collection of information on those who are to respond, including through the use of appropriate automated, electronic, mechanical, or other technological collection techniques or other forms of information technology (e.g., permitting electronic submissions of responses).

Current Action: The VISTA Recovery Act Progress Report Supplement (VRPRS) is designed to collect data related to the outcomes and outputs of Recovery Act funded VISTA Members and to allow AmeriCorps-VISTA to report on those activities as required by the legislation.

A 60-Day-Notice regarding this request was published in the Federal Register on April 1, 2009. No comments were received as a result of that publication.

Type of Review: Renewal.

Agency: Corporation for National and Community Service.

Title: VISTA Recovery Act Progress Report Supplement.

OMB Number: 3045-0131.

Agency Number: None.

Affected Public: AmeriCorps*VISTA sponsoring organizations (includes nonprofit organizations and State, local and tribal agencies).

Total Respondents: 950.

Frequency: Quarterly.

Average Time per Response: 1 hour.

Estimated Total Burden Hours: 3,800.

Total Burden Cost (capital/startup): None.

Total Burden Cost (operating/maintenance): None.

Dated: June 2, 2009.
Paul Davis,
Acting Director, AmeriCorps*VISTA.

[FR Doc. E9-13524 Filed 6-8-09; 8:45 am]

BILLING CODE 6050-$$-P